DEPARTMENT OF THE INTERIOR

Central Utah Project Completion Act

AGENCY: Department of the Interior, Office of the Assistant Secretary—Water and Science.

ACTION: Notice of Intent to prepare an Environmental Assessment for the proposed conversion of Central Utah Project water from irrigation to municipal and industrial use and possible expansion of delivery area in Wasatch County, Utah.

SUMMARY: Pursuant to Section 102(2)(c) of the National Environmental Policy Act of 1969, as amended, the Department of the Interior and the Central Utah Water Conservancy District (District) are evaluating the impacts of a proposed conversion of up to 12,100 acre feet of Central Utah Project (CUP) Bonneville Unit water, delivered to Wasatch County, Utah, from irrigation to municipal and industrial (M&I) use. The proposed water conversion could be implemented incrementally, and will involve up to 12,100 acre-feet of irrigation water that has been made available under Block Notice 1A of the CUP. The delivery area could be expanded to include additional land in Wasatch County.

The Bonneville Unit of the CUP was authorized to develop a portion of central Utah's water resources. Under the authority of the Central Utah Project Completion Act (Pub. L. 102-575), the Secretary of the Interior oversees implementation of the CUP and has authority to convert CUP water from irrigation to M&I use in accordance with the provisions of the 1965 Repayment Contract between the District and the United States. This water was originally developed for irrigation use in Wasatch County, Utah, under the Bonneville Unit of the CUP. Suburban development in the county has resulted in agricultural land being taken out of production, annexed into the cities, and developed into residential areas. These past and proposed changes in land use in Wasatch County, Utah, have resulted in a request made by the Wasatch County Special Service Area No. 1 to initiate a process of conversion from irrigation to M&I water use, and to expand the area to be eligible to receive CUP M&I water.

FOR FURTHER INFORMATION CONTACT: Additional information may be obtained by contacting Mr. Lynn Hansen, Central Utah Project Completion Act Office, 302 East 1860 South, Provo, Utah 84606, by calling (801) 379-1238, or e-mail at lhansen@usbr.gov.

Dated: April 5, 2010.
Reed R. Murray,
Program Director, Central Utah Project Completion Act, Department of the Interior.

[FR Doc. 2010-8105 Filed 4-8-10; 8:45 am]

BILLING CODE 4310-RK-P